ENVIRONMENTAL PROTECTION AGENCY

[FRL-9088-3]

Notice of Final Residual Desigination of Certain Storm Water Discharges in the State of Maine Under the National Pollutant Discharge Elimination System of the Clean Water Act

AGENCY: Environmental Protection Agency (EPA).

ACTION: Notice.

SUMMARY: The Regional Administrator of the Environmental Protection Agency's (EPA) New England Regional Office is providing notice of a final residual designation determination made on October 28, 2009 in accordance with Section 402(p) of the Clean Water Act, and implementing regulations in 40 CFR 122.26(a)(9)(i)(D). The final determination requires that storm water discharges from impervious areas equal to or greater than one acre in the Long Creek watershed (South Portland, Westbrook, Scarborough, and Portland, Maine) be authorized by a permit under the federal Clean Water Act because those discharges contribute to a violation of water quality standards in Long Creek. Copies of the final residual designation and other materials are available for inspection online as described elsewhere in this notice document.

FOR FURTHER INFORMATION CONTACT: Jennie Bridge, EPA New England Region, One Congress Street, Suite 1100, Mail Code CWQ, (617) 918-1685, bridge.jennie@epa.gov.

SUPPLEMENTARY INFORMATION: A copy of the final determination, the Record of Decision for the preliminary residual determination, and EPA's response to public comments may be viewed at the following Web sites: http://www.regulations.gov: Type in the key words “residual designation” and then search for docket ID No. EPA-R01-OW-2008-0910; http://www.epa.gov/region01/npdes/stormwater/assets/pdfs/LongCreekRD.pdf; http://www.epa.gov/region01/npdes/stormwater/index.html (scroll to “Residual Designations”/“Long Creek”).

Dated: November 23, 2009.
Ira Leighton,
Acting Regional Administrator, Region 1.

[FR Doc. E9-29076 Filed 12-4-09; 8:45 am]

BILLING CODE 6560-50-P